FEDERAL MEDIATION AND CONCILIATION SERVICE

Notice of Stakeholder Survey for Qualitative Feedback on Agency Service Delivery

AGENCY: Federal Mediation and Conciliation Service (FMCS).

ACTION: 60-Day notice and request for comments.

SUMMARY: The Federal Mediation and Conciliation Service (FMCS), invites the general public and other Federal Agencies to take this opportunity to comment on the following information collection request, Stakeholder Survey for Qualitative Feedback on Agency Service Delivery. This information collection request was previously approved by the Office of Management Budget (OMB) and FMCS is requesting a revision of a currently approved collection. This collection was developed as part of a Federal Government-wide effort to streamline the process for seeking feedback from the public on service delivery.

DATES: Comments must be submitted on or before May 31, 2022.

ADDRESSES: You may submit comments, identified by Stakeholder Survey for Qualitative Feedback on Agency Service Delivery, through one of the following methods:

• Email: register@fmcs.gov;

• Mail: Office of the General Counsel, One Independence Square, 250 E St. SW, Washington, DC 20427. Please note that at this time, mail is sometimes delayed. Therefore, we encourage emailed comments.

FOR FURTHER INFORMATION CONTACT: David Thaler, 980-812-0051, dthaler@fmcs.gov.

SUPPLEMENTARY INFORMATION: Copies of the agency questions are available here.

I. Information Collection Request

Agency: Federal Mediation and Conciliation Service.

Form Number: OMB No. 3076-0017.

Type of Request: Revision of a currently approved collection.

Affected Entities: Federal government and private sector.

Frequency: This survey is completed once.

Abstract: This information collection provides a means to garner qualitative customer and stakeholder feedback in an efficient, timely manner, in accordance with the Administration's commitment to improving service delivery. This feedback will provide insights into customer or stakeholder perceptions, experiences, and expectations. The surveys will provide notice of issues with service, or focus attention on areas where communication, training or changes in operations might improve delivery of products or services. The surveys are not statistical surveys that yield quantitative results that can be generalized to the population of study. These collections will allow for ongoing, collaborative, and actionable communications between the Agency and its customers and stakeholders. It will also allow feedback to contribute directly to improve program management. Responses will be assessed to plan and inform efforts to improve or maintain the quality of service offered to the public. Collecting this information is critical for ensuring quality service offered to the public.

Burden: FMCS receives approximately 7,100 responses per year and the time required is approximately one minute.

II. Request for Comments

FMCS solicits comments to:

i. Evaluate whether the proposed collections of information are necessary for the proper performance of the functions of the agency, including whether the information will have practical utility.

ii. Enhance the accuracy of the agency's estimates of the burden of the proposed collection of information.

iii. Enhance the quality, utility, and clarity of the information to be collected.

iv. Minimize the burden of the collections of information on those who are to respond, including the use of appropriate automated, electronic collection technologies or other forms of information technology.

III. The Official Record

The official records are electronic records.

List of Subjects

Labor-Management Relations.

Dated: March 25, 2022.
Anna Davis,
Acting General Counsel.

[FR Doc. 2022-06658 Filed 3-29-22; 8:45 am]

BILLING CODE 6732-01-P